DEPARTMENT OF HEALTH AND HUMAN SERVICES

Administration for Children and Families

Submission for OMB Review; Comment Request

Title: Generic Clearance for Financial Reports used in the Administration of Mandatory Grants.

OMB No.: 0970-New.

Description: OMB has granted permission for ACF to submit a request for a generic clearance to be used for the financial reports used in the administration of mandatory grants. This clearance supports the Departments initiative of Generating Efficiencies through Streamlined Processes by employing an abbreviated process.

If approved program offices will be at liberty to tailor a financial report to their specific needs rather than adhering to a standard form.

Respondents: States and Territories.

Annual Burden Estimates
Instrument | Number of respondents | Number of responses per respondent | Average burden hours per response | Total burden hours
Mandatory Grant Financial Report | 900 | 4 | 5 | 18,000

Estimated Total Annual Burden Hours:

Additional Information

Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2018-03976 Filed 2-26-18; 8:45 am]

BILLING CODE P